DEPARTMENT OF JUSTICE

Bureau of Justice Statistics

[OJP(BJS)-1321]

Criminal Victimization in Indian Country

AGENCY: Bureau of Justice Statistics, Office of Justice Programs, Justice.

ACTION: Notice of solicitation.

SUMMARY: The purpose of this notice is to announce a public solicitation to make awards to conduct criminal victimization surveys in Indian Country.

DATES: Proposals must be received at the Bureau of Justice Statistics (BJS) on or before 5 p.m. EST, Monday, August 13, 2001 or be postmarked on or before August 13, 2001.

ADDRESSES: Proposals should be mailed to Marika Litras, Statistician, Bureau of Justice Statistics, 810 Seventh Street, NW, Washington, D.C. 20531.

FOR FURTHER INFORMATION CONTACT: Marika Litras, Statistician, Bureau of Justice Statistics, 810 Seventh Street, NW, Washington, D.C. 20531; Phone: (202) 514-4272 [This is not a toll free number]; Email: Marika.Litras@usdoj.gov

SUPPLEMENTARY INFORMATION:

Statutory Authority

The awards made pursuant to this solicitation will be funded by the Bureau of Justice Statistics consistent with the provisions of 42 U.S.C. 3732.

Program Goals

The purpose of these awards is to provide funding to conduct criminal victimization studies in up to five American Indian and Alaska Native jurisdictions, reservations, tribal areas, or tribal lands. Special emphasis will be made to collect detailed information on the role of alcohol in violent crime victimizations and the characteristics of domestic violence incidents. BJS encourages the use of the Crime Victimization Survey (CVS) software, developed by BJS and the Office of Community Oriented Policing Services (COPS), which contains the survey platform used by the National Crime Victimization Survey (NCVS). The CVS is designed to allow users to modify it for local use for data collection via telephone or in-person contact.

BJS anticipates making up to five awards for a 12 month period under this solicitation. A total of $500,000 will be made available under this solicitation. It is anticipated that one local criminal victimization study can be completed for approximately $100,000.

Background

The implementation of criminal victimization surveys in Indian Country¹ is part of a muti-faceted effort by BJS to expand statistical activities related to American Indian and Alaska Native crime and justice issues. To date, little is known about the nature and extent of violent victimizations among American Indians and Alaska Natives residing in Indian Country. Existing knowledge has been gleaned largely from nationally representative samples of persons, households, or summary compilations of national arrest data.

¹ Includes American Indian jurisdictions, reservations, tribal areas or tribal lands, in addition to areas established as reservations or trust areas for natives peoples of Alaska.

National level findings from the National Crime Victimization Survey (NCVS), for example, suggest that American Indians experience per capita rates of violence which are more than twice those of the U.S. resident population, that violent crime committed against Indians may be among the most interracial when compared to crimes against Whites and Blacks, and that there is a relatively high rate of alcohol use among offenders. Data from the Supplementary Homicide Report of the Federal Bureau of Investigation (FBI) further suggest that American Indian murder victims are more likely than non-American Indian murder victims to have been killed during a brawl involving alcohol or drugs. Further information about American Indians, victimization and crime using nationally representative samples and data collections can be found in the BJS report, American Indians and Crime (February 1999) at <http://www.ojp.usdoj.gov/bjs/abstract/aic.htm> and Violent Victimization and Race, 1993-98 (March 2001) at <http://www.ojp.usdoj.gov/bjs/abstract/vvr98.htm>.

Analyses of these national data collections are significant, for they provide initial estimates of crime and victimization among American Indians at the national level. They also provide a baseline from which to compare other estimates of crime and victimization in Indian country. Because of their national scope, however, nationally representative sample surveys such as the NCVS are limited in their ability to describe small population subgroups (such as American Indians and Alaska Natives) in detail. Most importantly, they have not provided separate estimates of crime and victimization for individual American Indian tribes, Alaska Native villages, or those living in Indian County.

Given the lack of high-quality estimates of violent victimization at the tribal level, localized studies are needed to examine, in more detail, issues revealed in national surveys such as the characteristics and circumstances of violent victimization in Indian Country, the role of alcohol in violent victimizations, the characteristics of domestic violence incidents, and the types of crime that go unreported to tribal law enforcement authorities. Such specific information would help tribes develop tailored and effective crime prevention strategies in Indian Country.

Scope of Work

The objective of this project is to fund criminal victimization studies in up to five American Indian and Alaska Native jurisdictions in the U.S. Specifically, recipients of funds will:

1. Conduct a criminal victimization survey measuring the incidence, prevalence and characteristics of criminal victimization in one or more selected Indian Country locations. Special emphasis should be placed on the role of alcohol in violent crime victimization and the characteristics of domestic violence incidents. Use of the Crime Victimization Survey (CVS) software developed by BJS and the Office of Community Oriented Policing Services (COPS) is preferred. Information about this Windows-based software can be obtained on the BJS website at <http://www.ojp.usdoj.gov/bjs/abstract/cvs.htm>. The software and technical assistance can be obtained by contacting the BJS Clearinghouse at 1-800-732-3277 or by e-mail to <ASKBJS@ncjrs.org>. The Crime Victimization Listserv is also available for CVS users. Contact <ASKBJS@ncjrs.org> for more information about joining the Listserv.

2. Produce a final publication that reports findings from the survey as well as appropriate methodological detail necessary for others to replicate the survey findings. In addition to the statistical analysis, the publication should include a brief profile of the tribal jurisdiction surveyed, the tribal (and state, if applicable) criminal justice system, and existing crime prevention programs.

3. Conduct a presentation of the survey findings and disseminate related publications at two tribal meetings (one national and one local or regional) and at BJS along with other funded recipients under this grant. Presentations should focus on the planning, methodology, and implementation of the survey and should demonstrate the utility of the survey in documenting crime and identifying priorities for crime prevention in the tribe surveyed.

4. Deliver to BJS electronic versions of the survey data, documentation and related publications on diskette and in ASCII text file format. Survey documentation should include, but is not limited to, a description of the sampling plan, respondent selection, weighting, a comprehensive codebook detailing variable positions, data coding, variable and value labels, any recoding implemented during the data cleaning process, methods used for dealing with missing data, any data allocation, imputation, or non-response adjustment, and copies of all program code used to generate published statistics. All reports from this survey data may be posted on the BJS website, and data archived for public use at the Inter-University Consortium for Political and Social Research (ICPSR).

Award Procedures and Evaluation Criteria

Proposals should describe the plan and implementation strategies outlined in the Scope of Work. Applications will be reviewed competitively by a panel comprised of members selected by BJS which will make recommendations to the Director of BJS. The applicant will be evaluated on the basis of:

1. Demonstrated knowledge of the theoretical and practical issues related to criminal victimization and its measurement through the use of sample surveys. Applicants should demonstrate applied knowledge of sampling and sample designs, survey construction, interview techniques, validity and reliability of indicators, weighting, and significance testing. In addition, applicants should be well versed in the issues related to existing victimization surveys, including but not limited to, the National Crime Victimization Survey (NCVS), the BJS City-Level Survey of Crime Victimization and Citizen Attitudes, and the National Violence Against Women Survey. Applicants should be familiar with related material contained in websites maintained by BJS, the Violence Against Women Office (VAWO), and other Office of Justice Programs' bureaus and offices.

2. Specific knowledge of issues related to collecting victimization data about less reported crimes such as rape, domestic and intimate partner violence, and the role of alcohol for both offenders and victims in criminal victimization incidents.

3. Knowledge of the tribal justice issues and impediments to implementing a criminal victimization survey in the selected Federally recognized tribe. Applicants must demonstrate the ability to coordinate and facilitate trust and cooperation among tribal members participating in the survey, and must detail the appropriate survey methods to access the tribal population (e.g., sampling plan, telephone or in-person interviews) that will ensure a statistically sound and representative sample. Applicant should submit a letter of support from an authorized tribal official to demonstrate prior approval to carry out the survey in the selected tribal jurisdiction.

4. Demonstrated ability to analyze, publish, and disseminate professional reports using complex survey data. Demonstrated ability to make effective oral presentations of survey findings and ability to convey the utility of survey results to the development of crime prevention strategies and programs.

5. Demonstrated fiscal, management, staff, and organizational capability to provide sound management for this project.

Application and Award Process

An original and five (5) copies of the full proposal must be submitted including:

• Standard Form 424, Application for Federal Assistance

• OJP Form 7150/1, Budget Detail Worksheet

• OJP Form 4000/3, Program Narrative and Assurances

• OJP Form 4061/6, Certification Regarding Lobbying, Debarment, Suspension, and Other Responsibility Matters; Drug Free Workplace Requirements

• OJP Form 7120-1, Accounting System and Financial Capability Questionnaire (to be submitted by applicants who have not previously received Federal Funds from the Office of Justice Programs).

These forms can be obtained online from www.ojp.usdoj.gov/forms.htm.

In addition, fund recipients are required to comply with regulations designed to protect human subjects and ensure confidentiality of data. In accordance with 28 CFR Part 22, a Privacy Certificate must be submitted to BJS. Furthermore a Screening Sheet for Protection of Human Subjects must be completed prior to the award being issued. Questions regarding Protection of Human Subjects and/or Privacy Certificate requirements can be directed to the Human Subjects Protection Officer (HSPO) at (202) 616-3282 [This is not a toll free number].

Proposals must include a project description and detailed budget. The project narrative should describe activities as discussed in the Scope of Work and address the evaluation criteria. The project narrative should contain a detailed time line for project activities, a description of the questionnaire and survey methodology to be used including defined geographic boundaries, sampling plan and sample size, data collection method, data entry, analysis, and report production procedures. The detailed budget must provide detailed costs including salaries of staff involved in the project and the portion of those salaries to be paid from the award, fringe benefits paid to each staff person, travel costs, supplies required for the project, sub-contractual agreements, and other allowable costs. The grant award will be made for a period of 12 months.

Dated: June 21, 2001.
Lawrence Greenfeld,
Acting Director, Bureau of Justice Statistics.

[FR Doc. 01-16253 Filed 6-27-01; 8:45 am]

BILLING CODE 4410-18-P